DEPARTMENT OF ENERGY

Federal Energy Regulatory Commission

[Docket No. RP04-428-000]

Dominion Cove Point LNG, LP; Notice of Technical Conference

October 29, 2004.

On August 27, 2004,¹ the Commission issued an order directing the Commission Staff to convene a technical conference to discuss certain issues raised by Dominion Cove Point LNG, LP (Cove Point) in a July 30, 2004, filing.

¹ Dominion Cove Point LNG, LP, 108 FERC ¶ 61,211 (2004).

The purpose of the technical conference that is the subject of this notice is to discuss whether tariff language proposed by Cove Point in a ministerial filing is consistent with current Commission policies concerning title transfer tracking, as well as the practices of other LNG terminals.

Protestors assert that the tariff language Cove Point is proposing was originally included in its tariff in 1995, prior to the widespread use of technology permitting instant transfers of information. They assert that the requirement of two business days before providing parties with notification of a requested transfer is an obstacle to the efficient, market driven transactions that the Commission has promoted.

This technical conference will therefore give interested parties the opportunity to discuss whether Cove Point's proposal is justifiable or, as protesters assert, unreasonable in light of today's communications technology.

Take notice that the conference will be held on Tuesday, November 9, 2004 at 10 a.m. (EST), in a room to be designated at the offices of the Federal Energy Regulatory Commission, 888 First Street, NE., Washington, DC 20426.

All interested parties and staff are permitted to attend.

Any questions or concerns about the conference should be directed to: Eric Winterbauer, Office of the General Counsel—Markets, Tariffs and Rates, Federal Energy Regulatory Commission, 888 First Street, NE., Washington, DC 20426, (202) 502-8329, Eric.Winterbauer@ferc.gov.

Magalie R. Salas,
Secretary.

[FR Doc. E4-3055 Filed 11-5-04; 8:45 am]

BILLING CODE 6717-01-P